DEPARTMENT OF THE INTERIOR

National Park Service

[NPS-WASO-NAGPRA-NPS0035980; PPWOCRADN0-PCU00RP14.R50000]

Notice of Intent to Repatriate Cultural Items: Fine Arts Museums of San Francisco, San Francisco, CA

AGENCY: National Park Service, Interior.

ACTION: Notice.

SUMMARY: In accordance with the Native American Graves Protection and Repatriation Act (NAGPRA), the Fine Arts Museums of San Francisco intends to repatriate a cultural item that meets the definitions of both a sacred object and an object of cultural patrimony and that has a cultural affiliation with the Indian Tribes or Native Hawaiian organizations in this notice. The cultural item was removed from Acoma, NM.

DATES: Repatriation of the cultural item in this notice may occur on or after July 10, 2023.

ADDRESSES: Christina Hellmich, Fine Arts Museums of San Francisco, 50 Hagiwara Tea Garden Drive, San Francisco, CA 94118, telephone (415) 750-2621, email chellmich@famsf.org.

SUPPLEMENTARY INFORMATION: This notice is published as part of the National Park Service's administrative responsibilities under NAGPRA. The determinations in this notice are the sole responsibility of the Fine Arts Museums of San Francisco. The National Park Service is not responsible for the determinations in this notice. Additional information on the determinations in this notice, including the results of consultation, can be found in the summary or related records held by the Fine Arts Museums of San Francisco.

Description

On an unknown date the one cultural item was removed from Acoma, NM. The cultural item is a shield. The provenance of the shield is documented by two art exhibitions and accompanying catalogues at the Art Institute of Chicago and the Aspen Center for the Visual arts in 1977 and 1979, respectively. In 1977, Robert & Sharon Ashton of Santa Fe, NM, were listed as the owners of the shield. From 1979 to 1985, the shield was in the private collection of Jonathan and Philip M. Holstein of The Thundercloud Corporation, Aspen, CO. In 1985, the shield was sold to Thomas W. Weisel. It was in the Thomas W. Weisel Family Collection, Ross, CA, from 1985 until 2013, when it was gifted to the Fine Arts Museums of San Francisco. The shield is both a sacred object and an object of culturally patrimony.

Cultural Affiliation

The cultural item in this notice is connected to one or more identifiable earlier groups, tribes, peoples, or cultures. There is a relationship of shared group identity between the identifiable earlier groups, tribes, peoples, or cultures and one or more Indian Tribes or Native Hawaiian organizations. The following types of information were used to reasonably trace the relationship: art historical, oral traditional, other relevant information, and expert opinion.

Determinations

Pursuant to NAGPRA and its implementing regulations, and after consultation with the appropriate Indian Tribes and Native Hawaiian organizations, the Fine Arts Museums of San Francisco has determined that:

• The one cultural item described above is a specific ceremonial object needed by traditional Native American religious leaders for the practice of traditional Native American religions by their present-day adherents.

• The one cultural item described above has ongoing historical, traditional, or cultural importance central to the Native American group or culture itself, rather than property owned by an individual.

• There is a relationship of shared group identity that can be reasonably traced between the cultural item and the Pueblo of Acoma, New Mexico.

Requests for Repatriation

Additional, written requests for repatriation of the cultural item in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after July 10, 2023. If competing requests for repatriation are received, the Fine Arts Museums of San Francisco must determine the most appropriate requestor prior to repatriation. Requests for joint repatriation of the cultural item are considered a single request and not competing requests. The Fine Arts Museums of San Francisco is responsible for sending a copy of this notice to the Indian Tribe identified in this notice.

Authority: Native American Graves Protection and Repatriation Act, 25 U.S.C. 3003, and the implementing regulations, 43 CFR 10.8, 10.10, and 10.14.

Dated: May 31, 2023.
Melanie O'Brien,
Manager, National NAGPRA Program.

[FR Doc. 2023-12285 Filed 6-7-23; 8:45 am]

BILLING CODE 4312-52-P